DEPARTMENT OF THE TREASURY

Alcohol and Tobacco Tax and Trade Bureau

27 CFR Parts 4 and 24

[Docket No. TTB-2016-0005; Notice No. 160A; Re: Notice No. 160]

RIN 1513-AC27

Proposed Revisions to Wine Labeling and Recordkeeping Requirements; Comment Period Reopening

AGENCY: Alcohol and Tobacco Tax and Trade Bureau, Treasury.

ACTION: Notice of proposed rulemaking; reopening of comment period.

SUMMARY: The Alcohol and Tobacco Tax and Trade Bureau (TTB) is reopening the comment period for Notice No. 160, Proposed Revisions to Wine Labeling and Recordkeeping Requirements, a notice of proposed rulemaking published in the Federal Register on June 22, 2016. In Notice No. 160, TTB proposed to amend its labeling and recordkeeping regulations in 27 CFR part 24 to provide that any standard grape wine containing 7 percent or more alcohol by volume that is covered by a certificate of exemption from label approval may be labeled with a varietal (grape type) designation, a type designation of varietal significance, a vintage date, or an appellation of origin only if the wine is labeled in compliance with the standards set forth in the appropriate sections of 27 CFR part 4 for that label information. TTB also proposed to amend its part 4 wine labeling regulations to include a reference to the new part 24 requirement. TTB is reopening the comment period in response to requests from two wine industry trade associations. In addition, this reopening of the comment period solicits comments from the public on issues that were raised in comments received in response to Notice No. 160.

DATES: The comment period for the proposed rule published on June 22, 2016 (81 FR 40584) is reopened. Written comments on Notice No. 160 are now due on or before December 7, 2016.

ADDRESSES: Please send your comments on Notice No. 160 to one of the following addresses:

• Internet: https://www.regulations.gov (via the online comment form for this notice as posted within Docket No. TTB-2016-0005 at “Regulations.gov,” the Federal e-rulemaking portal);

• U.S. Mail: Director, Regulations and Rulings Division, Alcohol and Tobacco Tax and Trade Bureau, 1310 G Street NW., Box 12, Washington, DC 20005; or

• Hand delivery/courier in lieu of mail: Alcohol and Tobacco Tax and Trade Bureau, 1310 G Street NW., Suite 400, Washington, DC 20005.

See the Public Participation section of Notice 160 notice for specific instructions and requirements for submitting comments, and for information on how to request a public hearing.

You may view copies of this document and any comments TTB receives about this proposal at https://www.regulations.gov within Docket No. TTB-2016-0005. A link to that docket is posted on the TTB Web site at https://www.ttb.gov/wine/wine-rulemaking.shtml under Notice No. 160. You also may view copies of this proposed rule and any comments TTB receives about this proposal by appointment at the TTB Information Resource Center, 1310 G Street NW., Washington, DC 20005. Please call 202-453-2270 to make an appointment.

FOR FURTHER INFORMATION CONTACT: Jennifer Berry, Alcohol and Tobacco Tax and Trade Bureau, Regulations and Rulings Division; telephone 202-453-1039, ext. 275.

SUPPLEMENTARY INFORMATION: In Notice No. 160 (81 FR 40584, June 22, 2016), the Alcohol and Tobacco Tax and Trade Bureau (TTB) proposed to amend its labeling and recordkeeping regulations in 27 CFR part 24 to provide that any standard grape wine containing 7 percent or more alcohol by volume that is covered by a certificate of exemption from label approval may be labeled with a varietal (grape type) designation, a type designation of varietal significance, a vintage date, or an appellation of origin only if the wine is labeled in compliance with the standards set forth in the appropriate sections of 27 CFR part 4 for that label information. TTB is also proposing to amend its part 4 wine labeling regulations to include a reference to the new part 24 requirement. The 60-day comment period for Notice No. 160 originally closed on August 22, 2016.

TTB has received two requests from California-based wine industry trade associations to extend the public comment period an additional 90 days. The first, dated August 2, 2016, was submitted by Wine Institute; the second, dated August 19, 2016, was submitted by the California Association of Winegrape Growers. Both associations state that additional time is needed to assess the proposal's effects on their membership, noting that their members are currently preoccupied with the grape harvest. The letters are posted as Comment 7 and Comment 41 within Docket No. TTB-2016-0005 at www.regulations.gov.

Determination To Re-Open the Public Comment Period

In response to the requests from Wine Institute and the California Association of Winegrape Growers to extend the comment period, TTB is reopening the comment period for Notice No. 160 for an additional 90 days. We believe this additional time is necessary for industry members and the public to fully consider the proposals outlined in Notice 160. Therefore, comments on Notice No. 160 are now due on or before December 7, 2016.

Based on comments TTB has received to date on Notice No. 160, TTB is especially interested in comments regarding whether any geographic reference to the source of the grapes used in the wine could be included on a wine label in a way that would not be misleading with regard to the source of the wine. In light of the reopening of the comment period, TTB is asking that commenters consider this issue when commenting on Notice No. 160. Please provide any available specific information in support of your comments.

Drafting Information

Jennifer Berry of the Regulations and Rulings Division drafted this notice.

Dated: September 1, 2016.
John J. Manfreda,
Administrator.

[FR Doc. 2016-21522 Filed 9-7-16; 8:45 am]

BILLING CODE 4810-31-P